DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 19, 2002.

Interested persons are invited to submit written comments regarding the subject matter of the investigations to the Director, Division of Trade Adjustment Assistance, at the address shown below, not later than December 19, 2002.

The petitions filed in this case are available for inspection at the Office of the Director, Division of Trade Adjustment Assistance, Employment and Training Administration, U.S. Department of Labor, Room C-5311, 200 Constitution Avenue, NW., Washington, DC 20210.

Signed at Washington, DC this 26th day of November, 2002.
Edward A. Tomchick,
Director, Division of Trade Adjustment Assistance.

Appendix
[Petitions instituted between 11/12/2002 and 11/15/2002]
TA-W | Subject firm (petitioners) | Location | Date of institution | Date of petition
50,044 | Wrought Washer Manufacturing Company (USWA) | Milwaukee, WI | 11/12/2002 | 11/07/2002
50,045 | Domestic Manufacturing Corporation (Comp) | Kinston, NC | 11/12/2002 | 11/12/2002
50,046 | Crown North America (Wkrs) | Wooster, OH | 11/12/2002 | 11/07/2002
50,047 | Andrew Corporation (Comp) | Denton, TX | 11/12/2002 | 11/04/2002
50,048 | Cooper Power Systems (WIA) | S. Milwaukee, WI | 11/12/2002 | 11/12/2002
50,049 | Cooper Power Systems (WIA) | Waukesha, WI | 11/12/2002 | 11/12/2002
50,050 | Advanced Energy (Wkrs) | Austin, TX | 11/12/2002 | 11/08/2002
50,051 | Blue Ridge Sportswear (Comp) | Palmerton, PA | 11/12/2002 | 11/08/2002
50,052 | MeadWestvaco (Wkrs) | Front Royal, VA | 11/12/2002 | 11/05/2002
50,053 | Advance Transformer Company (Comp) | Monroe, WI | 11/12/2002 | 11/07/2002
50,054 | Universal Automotive, Inc. (Comp) | Cuba, MO | 11/12/2002 | 11/08/2002
50,055 | Kraft Foods (Comp) | Chicago, IL | 11/12/2002 | 11/08/2002
50,056 | Ehlert Tool Co. (WIA) | New Berlin, WI | 11/12/2002 | 11/08/2002
50,057 | Evans Rule Company, Inc. (Comp) | Charleston, SC | 11/12/2002 | 11/12/2002
50,058 | Ely Shoshone Tribe (Wkrs) | Ely, NV | 11/12/2002 | 11/04/2002
50,059 | Flowserve (Wkrs) | Williamsport, PA | 11/12/2002 | 11/12/2002
50,060 | GKN Sinter Metals (Comp) | Gallipolis, OH | 11/12/2002 | 11/13/2002
50,061 | VF Jeanswear Limited Partnership (Comp) | Woodstock, VA | 11/13/2002 | 11/06/2002
50,062 | After Six, Inc. (Comp) | Athens, GA | 11/13/2002 | 11/05/2002
50,063 | Valeo Electrical Systems, Inc. (Wkrs) | Rochester, NY | 11/13/2002 | 11/06/2002
50,064 | Cerro Fabricated Products (UAW) | Bristol, CT | 11/13/2002 | 11/12/2002
50,065 | Rawlings Sporting Goods (UNITE) | Licking, MO | 11/13/2002 | 11/11/2002
50,066 | Square D (IBEW) | Lincoln, NE | 11/13/2002 | 11/08/2002
50,067 | Advanced Glassfiber Yarns (Comp) | Aiken, SC | 11/13/2002 | 11/08/2002
50,068 | Velvet Drive Transmissions (UAW) | New Bedford, MA | 11/13/2002 | 11/07/2002
50,069 | L.W. Packard and Company, Inc. (Wkrs) | Ashland, NH | 11/13/2002 | 11/08/2002
50,070 | Eaton Corporation (Comp) | Mooresville, NC | 11/13/2002 | 11/07/2002
50,071 | Graphic Metals, Inc. (UAW) | Bay City, MI | 11/13/2002 | 11/11/2002
50,072 | Federal Mogul Powertrain Systems (UAW) | Orangeburg, SC | 11/13/2002 | 11/11/2002
50,073 | Collins and Aikman (UAW) | Marshall, WI | 11/13/2002 | 11/12/2002
50,074 | Summit Manufacturing LLC (Wkrs) | West Hazleton, PA | 11/14/2002 | 11/08/2002
50,075 | Mayville Engineering Company (Wkrs) | Mayville, WI | 11/14/2002 | 11/13/2002
50,076 | Altadis USA Inc. (IBT) | McAdoo, PA | 11/14/2002 | 11/04/2002
50,077 | Northern Cambria Shirt Co. (UFCW) | Northern Cambria, PA | 11/14/2002 | 11/06/2002
50,078 | Auburn Hosiery Mills, Inc. (Comp) | Auburn, KY | 11/14/2002 | 11/05/2002
50,079 | ITT Industries, Automotive Div. (Comp) | Searcy, AR | 11/14/2002 | 11/13/2002
50,080 | VF Jeanswear Limited Partnership (Comp) | El Paso, TX | 11/14/2002 | 11/06/2002
50,081A | Cutting Co., Inc. (The) (Comp) | Miami, FL | 11/14/2002 | 11/13/2002
50,081 | Drusco, Inc. (Comp) | Miami, FL | 11/14/2002 | 11/13/2002
50,082 | Playtex Apparel (Wkrs) | Dover, DE | 11/14/2002 | 11/06/2002
50,083 | Rayonier (Comp) | Lumber City, GA | 11/14/2002 | 11/08/2002
50,084 | Henry Pratt Company (IAM) | Dixon, IL | 11/14/2002 | 11/07/2002
50,085 | Pass and Seymour (Comp) | Concord, NC | 11/14/2002 | 11/12/2002
50,086 | J.C. Apparel, Inc. (Comp) | Sebastopol, MS | 11/15/2002 | 11/14/2002
50,087 | VF Jeanswear Limited Partnership (Comp) | Okemah, OK | 11/15/2002 | 11/06/2002
50,088 | Charles and Sons (NJ) | W. New York, NJ | 11/15/2002 | 11/07/2002
50,089 | E-Mu Systems (Comp) | Scotts Valley, CA | 11/15/2002 | 11/05/2002
50,090 | YKK USA, Inc. (Wkrs) | El Paso, TX | 11/15/2002 | 11/08/2002
50,091 | Cook Inlet Processing, Inc. (AK) | Kodiak, AK | 11/15/2002 | 11/14/2002
50,092 | Kus, Inc. (UAW) | Ft. Wayne, IN | 11/15/2002 | 11/14/2002
50,093 | Kane Magnetics International (Comp) | Kane, PA | 11/15/2002 | 11/06/2002
50,094 | Chiquola Industrial Products Group, LLC | Honea Path, SC | 11/15/2002 | 11/05/2002
50,095 | Johnson Controls, Inc. (Wkrs) | Kennesaw, GA | 11/15/2002 | 11/03/2002
50,096 | Burlington Industries (Wkrs) | Reidsville, NC | 11/15/2002 | 11/08/2002
50,097 | S. Goldberg (NJ) | Hackensack, NJ | 11/15/2002 | 11/04/2002
50,098 | Interstate Foam Processors, Inc. (NJ) | Passaic, NJ | 11/15/2002 | 11/04/2002
50,099 | Sweater Project (NJ) | North Bergen, NJ | 11/15/2002 | 11/07/2002
50,100 | Smith Systems (Comp) | Princeton, MN | 11/15/2002 | 11/12/2002
50,101 | Magna Power Tech (Wkrs) | Grand Rapids, MI | 11/15/2002 | 11/14/2002
50,102 | MMG North America (NJ) | Paterson, NJ | 11/15/2002 | 11/07/2002
50,103 | K and C Knitting, Inc. (NJ) | Passaic, NJ | 11/15/2002 | 11/07/2002
50,104 | Thermodisc, Inc. (Comp) | London, KY | 11/15/2002 | 11/14/2002
50,105 | Ericsson, Inc. (Comp) | Durham, NC | 11/15/2002 | 11/15/2002
50,106 | Profile Group LLC (Wkrs) | Coldwater, MI | 11/15/2002 | 11/12/2002

[FR Doc. 02-31057 Filed 12-6-02; 8:45 am]

BILLING CODE 4510-30-M